DEPARTMENT OF TRANSPORTATION

Federal Highway Administration

Cancellation of Supplemental Environmental Impact Statement (SEIS); Travis County, TX

AGENCY: Federal Highway Administration, DOT.

ACTION: Cancellation of Notice of Intent to Prepare a SEIS.

SUMMARY: The Federal Highway Administration (FHWA) and Texas Department of Transportation (TxDOT) are issuing this notice to advise the public that the Notice of Intent (NOI) to prepare a Supplemental Environmental Impact Statement (SEIS) for proposed improvements to U.S. Highway 290 (US 290)/State Highway (SH) 71 West through Oak Hill, in Travis County, Texas, is being rescinded.

FOR FURTHER INFORMATION CONTACT: Mr. Salvador Deocampo, District Engineer, District A, Federal Highway Administration (FHWA), Texas Division, 300 East 8th Street, Rm 826, Austin, Texas 78701, Telephone 512-536-5950.

SUPPLEMENTARY INFORMATION: On August 15, 2008, TxDOT, in cooperation with the FHWA, announced its intent to prepare a limited-scope SEIS pursuant to 40 CFR 1508.22 and 43 TAC Sec. 2.5(e)(2) for proposed improvement of US 290/SH 71 West through Oak Hill, in Travis County, Texas. The improvements proposed between Ranch-to-Market Road (RM) 1826 and Joe Tanner Lane were originally considered in a Final Environmental Impact Statement (FEIS) covering improvements to SH 71/US 290 from Ranch-to-Market Road (RM) 1826 to FM 973. A Record of Decision (ROD) was issued by FHWA on August 22, 1988. The mid-section of the original project limits, between Joe Tanner Lane and Riverside Drive, has been constructed. The limited-scope SEIS would have evaluated potential impacts resulting from changes in funding mechanisms, changes in adjacent land use, State and Federal listing of the Barton Springs salamander as endangered, public input, and proposed design modifications since the issuance of the SH 71/US 290 ROD along the unconstructed western portion of the original FEIS, between RM 1826 and Joe Tanner Lane.

TxDOT and FHWA have decided to rescind the NOI to prepare a SEIS for US 290/SH 71 West through Oak Hill from RM 1826 to Joe Tanner Lane. The project was placed on hold in 2008 due to the limited availability of funds and local planning priorities. The SEIS was in the preliminary stages of development. Recently, the FHWA has determined that a SEIS would no longer be applicable to the project and a full environmental impact statement (EIS) would be required to evaluate potential impacts. Therefore, the decision to rescind the NOI was due to limited availability of funds, local planning priorities and the determination that an EIS would be required.

Issued on: June 25, 2012.
Salvador Deocampo,
District Engineer.

[FR Doc. 2012-16640 Filed 7-6-12; 8:45 am]

BILLING CODE 4910-22-P